DEPARTMENT OF COMMERCE

National Oceanic and Atmospheric Administration

RIN 0648-XF276

North Pacific Fishery Management Council; Public Meeting

AGENCY: National Marine Fisheries Service (NMFS), National Oceanic and Atmospheric Administration (NOAA), Commerce.

ACTION: Notice of public meeting.

SUMMARY: The North Pacific Fishery Management Council (Council) Electronic Monitoring Workgroup (EMWG) will hold a public meeting on March 28 through March 29, 2017.

DATES: The meeting will be held on Tuesday, March 28, 2017, from 8 a.m. to 5 p.m. and Wednesday, March 29, 2017, from 8 a.m. to 5 p.m.

ADDRESSES: The meeting will be held in the Harbor Room at The Best Western Kodiak Inn, 236 Rezanof Drive, Kodiak, AK 99615. The meeting will be available by teleconference at: (907) 271-2896.

Council address: North Pacific Fishery Management Council, 605 W. 4th Ave., Suite 306, Anchorage, AK 99501-2252; telephone: (907) 271-2809.

FOR FURTHER INFORMATION CONTACT: Diana Evans, Council staff; telephone: (907) 271-2809.

SUPPLEMENTARY INFORMATION:

Agenda

Tuesday, March 28 through Wednesday, March 29, 2017

The agenda will include: (a) Update on 2017 pre-implementation and budget; (b) Review proposed rule for EM implementation (tentative); (c) Evaluation of 2016 EM program; (d) Planning for 2018 Observer/EM Annual deployment plan; (e) Update on EM/observer contract timing; (f) Research and development; (g) Other business and scheduling. The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: March 7, 2017.
Tracey L. Thompson,
Acting Deputy Director, Office of Sustainable Fisheries, National Marine Fisheries Service.

[FR Doc. 2017-04744 Filed 3-9-17; 8:45 am]

BILLING CODE 3510-22-P